ENVIRONMENTAL PROTECTION AGENCY

40 CFR Part 52

[EPA-R01-OAR-2016-0648; A-1-FRL-9962-83-Region 1]

Air Plan Approval; CT; Approval of Single Source Orders; Correction

AGENCY: Environmental Protection Agency (EPA).

ACTION: Final rule; correction.

SUMMARY: The Environmental Protection Agency (EPA) published a final rule in the Federal Register on May 1, 2017, approving reasonably available control technology (RACT) orders for two facilities in Connecticut, and also approving the state's request to withdraw seven previously approved RACT orders from the Connecticut state implementation plan. An error in the amendatory instruction is identified and corrected in this action.

DATES: This rule is effective on June 30, 2017.

FOR FURTHER INFORMATION CONTACT: Bob McConnell, Environmental Engineer, Air Quality Planning Unit, Air Programs Branch (Mail Code OEP05-02), U.S. Environmental Protection Agency, Region 1, 5 Post Office Square, Suite 100, Boston, Massachusetts, 02109-3912; (617) 918-1046; mcconnell.robert@epa.gov.

SUPPLEMENTARY INFORMATION: EPA published a direct final rule on May 1, 2017 (82 FR 20262) approving two Connecticut state orders, and also approving the state's request to withdraw seven previously approved orders from the Connecticut state implementation plan. In this approval, EPA incorrectly identified in the amendatory instructions a paragraph to be added to 40 CFR 52.370 as paragraph (c)(55)(i)(B). This paragraph should have been identified as (c)(55)(i)(C). Therefore, the amendatory instruction is being corrected to reflect the correct CFR reference.

Correction

In the direct final rule published in the Federal Register on May 1, 2017, (82 FR 20262), make the following correction:

§ 52.370 [Corrected]

1. On page 20266, first column, in amendatory instruction 2 for § 52.370, in the fourth line, the entry for paragraph “(c)(55)(i)(B)” is corrected to read “(c)(55)(i)(C).”

Dated: May 16, 2017.
Deborah A. Szaro,
Acting Regional Administrator, EPA New England.

[FR Doc. 2017-11571 Filed 6-5-17; 8:45 am]

BILLING CODE 6560-50-P